DEPARTMENT OF THE INTERIOR

Bureau of Land Management

[NV-040-5870-EU; N-80738, 7-08807]

Notice of Realty Action: Competitive Sale of Public Lands in Lincoln County, NV

AGENCY: Bureau of Land Management, Department of the Interior.

ACTION: Notice of realty action.

SUMMARY: The Bureau of Land Management (BLM) proposes to offer for sale competitively one parcel of federally owned land in Lincoln County located southeast of Alamo, Nevada, which totals approximately 159 acres, more or less. The sale is authorized under sections 203 and 209 of the Federal Land Policy and Management Act of 1976 (FLPMA) 43 U.S.C. 1713 and 1719, respectively.

DATES: Comments regarding the proposed sale must be received by BLM on or before October 4, 2007. N-80738 (Parcel B) will be offered for sale at a public auction on October 16, 2007. Registration for oral bidding will begin at 9 a.m., PDT, and the public auction will begin at 11 a.m., PDT.

ADDRESSES: Written comments regarding the proposed sale and Environmental Assessment (EA) must be submitted by postal service or overnight mail to: Field Manager, Bureau of Land Management, Las Vegas Field Office, 4701 N. Torrey Pines Drive, Las Vegas, NV 89130.

More detailed information regarding the proposed sale and the lands involved may be reviewed during normal business hours (7:30 a.m. to 4:30 p.m.) at the BLM Las Vegas Field Office (LVFO). Information is also available on the BLM Web site at http://www.nv.blm.gov.

Pre-registration for oral bidding before the day of the sale may be done at the LVFO. The location for sale day registration and the public auction will be at the Rapport Executive Retreat, 1 JFDI Way, Alamo, Nevada.

FOR FURTHER INFORMATION CONTACT: You may contact the LVFO at (702) 515-5000 from 7:30 a.m. to 4:30 p.m., Monday through Friday (except Federal holidays), and ask for Manuela Johnson, realty specialist. For general information on BLM's public land sale procedures, refer to the following Web address: http://www.blm.gov/nhp/what/lands/realty/tenure/sale.htm.

SUPPLEMENTARY INFORMATION: Parcel N-80738 (Parcel B) is located southeast of Alamo, Nevada.

Mount Diablo Meridian, Nevada

T. 7 S., R. 61 E.

Section 9, NE¼.

The area described contains 159 acres, more or less, in Lincoln County.

This parcel of public land is proposed for competitive sale at no less than the appraised fair market value (FMV) as determined by the authorized officer after appraisal. Current appraisal for the parcel will be available for public review at the LVFO.

As stated, Parcel B is proposed for sale subject to the applicable provisions of sections 203 and 209 of the FLPMA, as well as the BLM land sale and mineral conveyance regulations at 43 Code of Federal Regulations (CFR) Parts 2710 and 2720. Consistent with the FLPMA Section 203, the tract of public lands may be sold as a result of approved land use planning; the sale of the tract meets the disposal criteria.

The sale is in accordance with provisions at 43 CFR 2710.0-3(2), which state “Disposal of such tract shall serve important public objectives, including but not limited to, expansion of communities and economic development, which cannot be achieved prudently or feasibly on lands other than public lands and which outweigh other public objectives and values, including, but not limited to, recreation and scenic values, which would be served by maintaining such tract in Federal ownership,” and 43 CFR 2710.0-3(3), where “such a tract, because of its location or other characteristics is difficult and uneconomic to manage as part of the public lands, and is not suitable for management by another Federal department or agency.”

The disposal would be carried out in accordance with section 205 of the Federal Land Transaction Facilitation Act of July 25, 2000 (FLTFA) (43 U.S.C. 2304), in which the proceeds from the sale of the lands would be deposited into the Federal Land Disposal Account.

These lands are identified as suitable for disposal in the BLM Caliente Management Framework Plan approved July 14, 1980 and the Caliente Management Framework Plan Amendment (MFP Amendment) and Record of Decision (ROD) for the Management of Desert Tortoise Habitat, approved September 19, 2000. The proposed disposal action is consistent with the objectives, goals, and decisions of the MFP Amendment. The identified lands are not needed for any Federal purpose.

The MFP Amendment and ROD provide that a maximum of 16,926 acres of desert tortoise habitat outside areas of critical environmental concern (ACEC) may be disposed through the appropriate land laws as identified by the U.S. Fish and Wildlife Service (USFWS) under the biological opinion (BO) for the Amendment. The identified lands are not needed for any Federal purpose, and their disposal would be in the public interest.” This disposal is in accordance with the MFP L-4 and BO decision. According to the MFP Amendment, lands identified within desert tortoise habitat, but outside of designated Areas of Critcal Environmental Concern/Desert Wildlife Management Areas (ACEC/DWMAs), may be conveyed for community expansion and public projects. The above described lands fall outside the ACEC/DWMAs. The lands are among the maximum 16,926 acres available for sale. Lands may be conveyed prior to having a USFWS-approved habitat conservation plan in place.

The BLM provided a 30-day comment period for the EA as part of its public involvement. All comments received have been considered and incorporated into the EA and decision record. The EA, number NV-040-07-35, Decision Record, Environmental Site Assessment, map and approved appraisal report covering the proposed sale, are available for review at the BLM LVFO in Las Vegas, Nevada.

Sale Segregation

Publication of this Notice in the Federal Register segregates the subject lands from all appropriations under the public land laws, including the general mining laws, except sale under the Federal Land Policy and Management Act of 1976. The segregation will terminate upon issuance of the patent, upon publication in the Federal Register of a termination of the segregation or August 20, 2009, whichever occurs first.

Terms And Conditions

The patent issued would contain the following numbered reservations, covenants, terms and conditions:

1. All leasable minerals are reserved to the United States, its permittees, licensees and lessees, together with the right to prospect for, mine, and remove the minerals under applicable law and such regulations as the Secretary of the Interior may prescribe, along with all necessary access and exit rights.

2. A right-of-way is reserved for ditches and canals constructed by authority of the United States under the Act of August 30, 1890 (43 U.S.C. 945).

3. The parcel is subject to valid existing rights.

4. The parcels are subject to the requirements of Section 120(h) of the Comprehensive Environmental Response, Compensation and Liability Act, as amended (CERCLA) (43 U.S.C. 9620(h)).

5. The purchaser/patentee, by accepting a patent, covenant and agree to indemnify, defend, and hold the United States harmless from any costs, damages, claims, causes of action, penalties, fines, liabilities, and judgments of any kind or nature arising from the past, present, and future acts or omissions of the patentee or their employees, agents, contractors, or lessees, or any third party, arising out of or in connection with the patentees' use, occupancy, or operations on the patented real property. This indemnification and hold harmless agreement includes, but is not limited to, acts and omissions of the patentee and their employees, agents, contractors, or lessees, or any third party, arising out of or in connection with the use and/or occupancy of the patented real property which has already resulted or does hereafter result in: (1) Violations of Federal, state, and local laws and regulations that are now or may in the future become, applicable to the real property; (2) Judgments, claims or demands of any kind assessed against the United States; (3) Costs, expenses, or damages of any kind incurred by the United States; (4) Releases or threatened releases of solid or hazardous waste(s) and/or hazardous substances(s), as defined by Federal or State environmental laws, off, on, into or under land, property and other interests of the United States; (5) Activities by which solid waste or hazardous substances or waste, as defined by Federal and State environmental laws are generated, released, stored, used or otherwise disposed of on the patented real property, and any cleanup response, remedial action or other actions related in any manner to said solid or hazardous substances or wastes; or (6) Natural resource damages as defined by Federal and State law. This covenant shall be construed as running with the parcels of land patented or otherwise conveyed by the United States, and may be enforced by the United States in a court of competent jurisdiction.

No representation, warranty or covenant of any kind, express or implied, will be given or made by the United States, its officers or employees, as to access to or from the above described parcel of land, the title to the land, whether or to what extent the land may be developed, its physical condition or its past, present or potential uses, and the conveyance of any such parcel will not be on a contingency basis.

Maps delineating the individual proposed sale parcels are available for public review at the BLM LVFO. Current appraisal for the parcel will be available for public review at the LVFO.

If the parcels of land are sold, the locatable mineral interest of no known value therein will be sold simultaneously as part of the sale. The unreserved mineral interest has been determined, prior to the sale, to have no known mineral value pursuant to 43 CFR 2710.2(a). An offer to purchase the parcels at auction will constitute an application for conveyance of the locatable mineral interest. In conjunction with the final payment, the applicant will be required to pay a $50.00 non-refundable filing fee for processing the conveyance of the locatable mineral interests.

Bids may be received by sealed bid for the proposed parcel prior to the auction or orally at the public auction. All sealed bids must be received at the LVFO no later than 4:30 p.m., PDT, October 12, 2007. Sealed bid envelopes must be marked on the front lower left-hand corner: SEALED BID—DO NOT OPEN and with the BLM serial number N-80738—Parcel B and the sale date October 16, 2007. Bids must not be less than the federally approved FMV. The sealed bid shall be accompanied by a certified check, money order, bank draft, or cashier's check made payable in U.S. dollars to the order of the DOI-Bureau of Land Management, for not less than 10 percent or more than 30 percent of the amount of the bid. The highest qualified sealed bid for the sale parcel will become the starting bid at the oral auction. If no sealed bids are received, oral bidding will begin at the FMV, as determined by the authorized officer.

The parcel will be offered for competitive sale by oral auction beginning at 11 a.m., PDT, October 16, 2007, at the Rapport Executive Retreat, 1 JFDI Way, Alamo, Nevada. Interested parties who will not be bidding are not required to register. Interested parties are welcome to observe the process, however, bidders will have preference for seating if it becomes limited.

All oral bidders are required to register. Registration for oral bidding will begin at 9 a.m., PDT, on the day of the sale and will end at 11 a.m., PDT. Oral bidders may pre-register by mail or fax by completing the form in the sale folder. Sale folders are available at the BLM LVFO.

On the day of the sale, pre-registered bidders must present a photo identification card to receive a bidder number. All other bidders will be asked for additional information along with a photo identification card. A bidder number will be assigned at the completion of registration. Oral bids will be considered only if received at the place of sale and made at least for the FMV as determined by the authorized officer.

The highest qualifying bid for the parcel, whether sealed or oral, will be declared the high bid. The apparent high bidder, if an oral bidder, must submit the full deposit amount to a BLM collection officer at the Rapport Executive Retreat Building by 3 p.m., PDT, on the day of the sale, either in the form of cash, personal check, bank draft, cashier's check, money order, or any combination thereof, made payable in U.S. dollars to the order of DOI-Bureau of Land Management, for not less than 20 percent of the amount of the successful bid.

The remainder of the full bid price on any parcel, whether sealed or oral, must be paid on or prior to the expiration of 180 calendar days after the competitive sale date in the form of a certified check, money order, bank draft, or cashier's check made payable in U.S. Dollars to the order of the Bureau of Land Management. Personal checks will not be accepted for the remainder payment. Failure to pay the full price on the parcel or prior to expiration of the 180 days will disqualify the apparent high bidder and cause the entire bid deposit to be forfeited to the BLM.

The BLM may accept or reject any or all offers or withdraw the parcel of land or interest therein from sale, if, in the opinion of the authorized officer, consummation of the sale would not be fully consistent with the FLPMA or other applicable laws or are determined not to be in the public interest.

If not sold, the parcel described above in this notice may be identified for sale at a later date and/or at another location without further legal notice. Upon publication of this notice and until completion of the sale, the BLM is no longer accepting land use applications affecting the parcel identified for sale. However, land use applications may be considered after completion of the sale if the parcel is not sold through the sealed or oral bidding procedures, provided the authorization will not adversely affect the marketability or value of the parcel.

Federal law requires bidders to be United States citizens 18 years of age or older, a corporation subject to the laws of any state or of the United States, a state, state instrumentality, or political subdivision authorized to hold property, or an entity including, but not limited to, associations or partnerships capable of holding property or interests therein under the laws of the State of Nevada (see 43 CFR 2711.2). Certification of qualification, including United States citizenship status, must accompany the bid deposit.

In order to determine the value, through appraisal of the parcel of land proposed to be sold, certain assumptions may have been made of the attributes and limitations of the land and potential effects of local regulations and policies on potential future land uses. Through publication of this NORA, the BLM gives notice that these assumptions may not be endorsed or approved by units of local government. It is the buyer's responsibility to be aware of all applicable local government policies, laws and regulations that would affect the subject lands, including any required dedication of lands for public uses. It is also the buyer's responsibility to be aware of existing or projected use of nearby properties. When conveyed out of federal ownership, the lands will be subject to any applicable reviews and approvals by the respective unit of local government for proposed future uses, and any such reviews and approvals will be the responsibility of the buyer. Any land lacking access from a public road or highway will be conveyed as such, and future access acquisition will be the responsibility of the buyer.

Detailed information concerning the sale, including the reservations, sale procedures and conditions, CERCLA and other environmental documents, is available for review at the BLM LVFO or by calling (702) 515-5224.

Public Comments: The general public and interested parties may submit comments regarding the proposed sale and EA to the Field Manager, BLM LVFO. Comments must be received by the BLM no later than October 4, 2007. Only written comments submitted by postal service or overnight mail will be considered as properly filed. E-mail, facsimile or telephone comments will not be considered as properly filed.

Before including your address, phone number, e-mail address, or other personal identifying information in your comment, you should be aware that your entire comment—including your personal identifying information—may be made publicly available at any time. While you can ask us in your comment to withhold your personal identifying information from public review, we cannot guarantee that we will be able to do so.

BLM will not consider any anonymous comments. Comments will be reviewed by the BLM Nevada State Director, who may sustain, vacate, or modify this realty action in whole or in part.

(Authority: 43 CFR 2711.1-2(a) and (c))

John F. Ruhs,
Ely Field Manager.

[FR Doc. E7-16341 Filed 8-17-07; 8:45 am]

BILLING CODE 4310-HC-P